DEPARTMENT OF AGRICULTURE

Food Safety and Inspection Service

[Docket No. FSIS-2016-0049]

Codex Alimentarius Commission: Meeting of the Codex Committee on Food Additives

AGENCY: Office of the Deputy Under Secretary for Food Safety, USDA.

ACTION: Notice of public meeting and request.

SUMMARY: The Office of Food Safety, U.S. Department of Agriculture (USDA), and the Food and Drug Administration (FDA), U.S. Department of Health and Human Services are sponsoring a public meeting on February 21, 2017, from 9:00 a.m. to 12:00 noon. The objective of the public meeting is to provide information and receive public comments on agenda items and draft United States (U.S.) positions discussed at the 49th Session of the Codex Committee on Food Additives (CCFA) of the Codex Alimentarius Commission (Codex), taking place in Macao SAR, China March 20-24, 2017. The USDA Office of Food Safety and FDA recognize the importance of providing interested parties the opportunity to obtain background information on the 49th Session of the CCFA and to address items on the agenda.

DATES: The public meeting is scheduled for Tuesday, February 21, 2017, from 9:00 a.m. to 12:00 p.m.

ADDRESSES: The public meeting will take place in Rooms 1A-001 and 1A-002, The Food and Drug Administration (FDA), Harvey Wiley Federal Building, 5001 Campus Drive, College Park, MD 20740.

Documents related to the 49th Session of the CCFA will be accessible via the Internet at the following address: http://www.codexalimentarius.org/meetings-reports/en/.

The U.S. Delegate to the 49th Session of the CCFA, Paul Honigfort,invites interested U.S. parties to submit their comments electronically to the following email address: ccfa@fda.hhs.gov.

Registration: Attendees may register by emailing ccfa@fda.hhs.gov by February 14, 2017. Early registration is encouraged because it will expedite entry into the building and its parking area. If you require parking, please include the vehicle make and tag number when you register. Because the meeting will be held in a Federal building, you should also bring photo identification and plan for adequate time to pass through security screening systems. Attendees that are not able to attend the meeting in-person but wish to participate may do so by phone. Those wishing to participate by phone should request the call-in number and conference code when they register for the meeting.

For further information about the 49th Session of the CCFA contact: Paul Honigfort, Ph.D., Consumer Safety Officer, Division of Food Contact Notifications, Office of Food Additive Safety, U.S. Food and Drug Administration 5001 Campus Drive, College Park, MD 20740, Telephone: (240) 402-1206, Fax: (301) 436-2965, email: Paul.Honigfort@fda.hhs.gov.

FOR FURTHER INFORMATION ABOUT THE PUBLIC MEETING CONTACT: Daniel E. Folmer, Ph.D., Review Chemist, Division of Petition Review, Office of Food Additive Safety, CFSAN/FDA HFS-265, 5001 Campus Drive, College Park, MD 20740, Telephone: (240) 402-1269, Fax: (301) 436-2972, email: daniel.folmer@fda.hhs.gov.

SUPPLEMENTARY INFORMATION:

Background

Codex was established in 1963 by two United Nations organizations, the Food and Agriculture Organization (FAO) and the World Health Organization (WHO).

Through adoption of food standards, codes of practice, and other guidelines developed by its committees, and by promoting their adoption and implementation by governments, Codex seeks to protect the health of consumers and ensure that fair practices are used in trade.

The CCFA establishes or endorses permitted maximum levels for individual food additives; prepares priority lists of food additives for risk assessment by the Joint FAO/WHO Expert Committee on Food Additives (JECFA); assigns functional classes and International Numbering System (INS) numbers to individual food additives; recommends specifications of identity and purity for food additives for adoption by Codex; considers methods of analysis for the determination of additives in food; and considers and elaborates standards or codes for related subjects such as labeling of food additives when sold as such. The CCFA is hosted by China.

Issues To Be Discussed at the Public Meeting

The following items on the agenda for the 49th Session of the CCFA will be discussed during the public meeting:

• Matters Referred by the Codex Alimentarius Commission and other subsidiary bodies

• Matters of Interest arising from FAO/WHO and from the 82nd Meeting of the Joint FAO/WHO Expert Committee on Food Additives (JECFA)

• Proposed draft Specifications for Identity and Purity of Food Additives arising from the 82nd JECFA Meeting

• Endorsement and/or Revision of Maximum Levels for Food Additives and Processing Aids in Codex Standards

• Alignment of the food additive provisions of commodity standards: Report of the EWG on Alignment

• General Standard for Food Additives (GSFA): Outstanding provisions from the 48th session of CCFA; provisions for benzoates in FC 14.1.4; provisions in FC 5.0 and 5.1; provisions associated with Note 22; provisions in FC 01.1, 01.1.1, 01.1.3 and 01.1.4 (Report of the EWG on the GSFA)

• General Standard for Food Additives (GSFA): Use levels for adipic acid (INS 355) in various food categories (replies to CL 2016/9-FA)

• General Standard for Food Additives (GSFA): Proposals for new and/or revision of food additive provisions (replies to CL 2016/8-FA, point 4 (a), 4(b) & 4 (c))

• Discussion paper on the use of food additives in the production of wine

• Proposed draft revision to the International Numbering System (INS) for Food Additives (CAC/GL 36-1989)

• Proposals for additions and changes to the Priority List of Substances proposed for evaluation by JECFA (replies to CL 2016/13-FA)

• Discussion paper on the management of CCFA work

• Other Business and Future Work

Each issue listed will be fully described in documents distributed, or to be distributed, by the Codex Secretariat prior to the meeting. Members of the public may access these documents at http://www.fao.org/fao-who-codexalimentarius/meetings-reports/detail/en/?meeting=CCFA&session=49.

Public Meeting

At the February 21, 2017 public meeting, draft U.S. positions on the agenda items will be described and discussed, and attendees will have the opportunity to pose questions and offer comments. Written comments may be offered at the meeting or sent to the U.S. Delegate for the 49th Session of the CCFA, Paul Honigfort, Ph.D. at the following address: ccfa@fda.hhs.gov. Written comments should state that they relate to activities of the 49th Session of the CCFA.

Additional Public Notification

Public awareness of all segments of rulemaking and policy development is important. Consequently, in an effort to ensure that minorities, women, and persons with disabilities are aware of this notice, FSIS will announce it online through the FSIS Web page located at: http://www.fsis.usda.gov/wps/portal/fsis/topics/regulations/federal-register/federal-register-notices.

FSIS will also make copies of this Federal Register publication available through the FSIS Constituent Update, which is used to provide information regarding FSIS policies, procedures, regulations, Federal Register notices, FSIS public meetings, and other types of information that could affect or would be of interest to constituents and stakeholders. The Update is communicated via Listserv, a free email subscription service for industry, trade groups, consumer interest groups, health professionals, and other individuals who have asked to be included. The Update is also available on the FSIS Web page. Through the Listserv and Web page, FSIS is able to provide information to a much broader and more diverse audience. In addition, FSIS offers an email subscription service which provides automatic and customized access to selected food safety news and information. This service is available at: http://www.fsis.usda.gov/wps/portal/fsis/topics/international-affairs/us-codex-alimentarius/committees-and-task-forces/mailing-list/CT_Index.

Options range from recalls to export information to regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.) should contact USDA's TARGET Center at (202) 720-2600 (voice and TDD).

Dated: January 12, 2016.
Mary Frances Lowe,
U.S. Manager for Codex Alimentarius.

[FR Doc. 2017-01108 Filed 1-18-17; 8:45 am]

BILLING CODE 3410-DM-P